DEPARTMENT OF DEFENSE

Office of the Secretary

[DOD-2010-OS-0043; RIN 0790-AI62]

32 CFR Part 222

DoD Mandatory Declassification Review (MDR) Program; Correction

AGENCY: Department of Defense.

ACTION: Final rule; correction.

SUMMARY: On December 27, 2011 (76 FR 80744-80747), Department of Defense published a final rule titled DoD Mandatory Declassification Review (MDR) Program, which assigns responsibilities and provides procedures for members of the public to request a declassification review of information classified under the provisions of Executive Order 13526, or predecessor orders. This rule corrects a paragraph identification error in the regulations.

DATES: This correction is effective January 26, 2012.

FOR FURTHER INFORMATION CONTACT: Patricia Toppings, (571) 372-0485.

SUPPLEMENTARY INFORMATION: On December 27, 2011, Department of Defense published a final rule titled DoD Mandatory Declassification Review (MDR) Program. Subsequent to the publication of that final rule, Department of Defense discovered that paragraph § 222.5(f) in the third column of page 80746 should have read § 222.5(j).

Correction

In the final rule (FR Doc. 2011-33104) published on December 27, 2011 (76 FR 80744-80747), make the following correction:

§ 222.5 [Corrected]

On page 80746, in § 222.5, in the third column, in the first line of the third paragraph, “(f) MDR Appeals.” should read “(j) MDR Appeals.”.

Dated: December 30, 2011.
Aaron Siegel,
Alternate OSD Federal Register Liaison Officer, Department of Defense.

[FR Doc. 2011-33857 Filed 1-5-12; 8:45 am]

BILLING CODE 5001-06-P